DEPARTMENT OF THE INTERIOR

Fish and Wildlife Service

50 CFR Part 17

RIN 1018-AE30

Endangered and Threatened Wildlife and Plants; Reopening of Comment Period on Proposed Endangered Status for the Southern California Distinct Vertebrate Population Segment of the Mountain Yellow-Legged Frog

AGENCY: Fish and Wildlife Service, Interior.

ACTION: Proposed rule; notice of reopening of comment period.

SUMMARY: We, the Fish and Wildlife Service (Service), reopen the comment period on the proposed rule to list the southern California distinct vertebrate population segment (DPS) of the mountain yellow-legged frog (Rana muscosa) as an endangered species, pursuant to the Endangered Species Act of 1973, as amended (Act). The comment period is reopened in response to a request from the California Department of Fish and Game for additional time to obtain biological information regarding the mountain yellow-legged frog and formulate comments on the proposed rule. In addition, reopening of the comment period will allow further opportunity for all interested parties to submit comments on the proposal, which is available (see ADDRESSES section). We are seeking comments or suggestions from the public, other concerned governmental agencies, the scientific community, industry, or any other interested parties concerning the proposed rule. Comments already submitted on the proposed rule need not be resubmitted as they will be fully considered in the final determination.

DATES: The reopened comment period closes June 19, 2000.

ADDRESSES: Comments and materials concerning this proposal should be sent to the Field Supervisor, U.S. Fish and Wildlife Service, Carlsbad Fish and Wildlife Office, 2730 Loker Avenue West, Carlsbad, California, 92008. Comments and materials received will be available for public inspection, by appointment, during normal business hours at the above address.

FOR FURTHER INFORMATION CONTACT: Glen Knowles, Carlsbad Fish and Wildlife Office (see ADDRESSES section) at (760) 431-9440.

SUPPLEMENTARY INFORMATION:

Background

On December 22, 1999, the Service published a rule proposing endangered status for the southern California DPS of the mountain yellow-legged frog (Rana muscosa) in the Federal Register (64 FR 71714). The original comment period closed on February 22, 2000. On March 20, 2000, the Service published a notice reopening the comment period for 30 days (65 FR 14936). This reopened comment period closed on April 19, 2000. The comment period now closes on June 19, 2000. Written comments should be submitted to the Service (see ADDRESSES section).

The mountain yellow-legged frog is a true frog in the family Ranidae. The southern California mountain yellow-legged frog can still be found in small streams in the San Gabriel mountains, San Bernardino mountains, and the San Jacinto mountains. In addition to predation from trout and other widespread factors, the few remaining frogs are threatened by recreation (i.e. suction dredging, campgrounds, day use areas), the introduction of non-native competitors and predators, and demographics associated with small populations. Comments from the public regarding the accuracy of this proposed rule are sought, especially regarding:

(1) Biological, commercial trade, or other relevant data concerning any threat (or lack thereof) to this species;

(2) The location and status of any additional occurrences of this species and the reasons why any habitat should or should not be determined to be critical habitat pursuant to section 4 of the Act;

(3) Additional information concerning the range, distribution, and population size of this species;

(4) Current or planned activities in the subject area and their possible impacts on the mountain yellow-legged frog or its habitat.

Author: The primary author of this notice is Glen Knowles (see ADDRESSES section).

Authority: The authority for this action is the Endangered Species Act of 1973 (16 U.S.C. 1531 et seq.).

Dated: May 15, 2000.
Elizabeth H. Stevens,
Acting Manager, California/Nevada Operations Office.

[FR Doc. 00-12608 Filed 5-18-00; 8:45 am]

BILLING CODE 4310-55-U